DEPARTMENT OF LABOR

Employment and Training Administration

[TA-W-52,780]

SPX Dock Products, a Division of SPX Corporation, Milwaukee, WI; Notice of Termination of Investigation

Pursuant to section 221 of the Trade Act of 1974, as amended, an investigation was initiated on September 9, 2003, in response to a petition filed by Teamsters “General” Local Union, No. 200, on behalf of workers at SPX Dock Products, a division of SPX Corporation, Milwaukee, Wisconsin.

The petitioner has requested that the petition be withdrawn. Consequently, the investigation has been terminated.

Signed at Washington, DC this 3rd day of September, 2003.
Richard Church,
Certifying Officer, Division of Trade Adjustment Assistance.

[FR Doc. 03-29279 Filed 11-21-03; 8:45 am]

BILLING CODE 4510-30-P